DEPARTMENT OF HOMELAND SECURITY

Coast Guard

33 CFR Part 100

[Docket No. USCG-2015-0813]

Annual Marine Events in the Eighth Coast Guard District, Sabine River; Orange, TX

AGENCY: Coast Guard, DHS.

ACTION: Notice of enforcement of regulation.

SUMMARY: The Coast Guard will enforce Special Local Regulations for the Southern Professional Outboard Racing Tour (S.P.O.R.T.) boat races to be held on the Sabine River in Orange, TX from 3 p.m. on September 18, 2015, through 6 p.m. on September 20, 2015. This action is necessary to provide for the safety of the participants, crew, spectators, participating vessels, non-participating vessels and other users of the waterway. During the enforcement period, the Coast Guard Patrol Commander will enforce restrictions upon, and control the movement of, vessels in the zone established by the Special Local Regulation.

DATES: The regulation in 33 CFR 100.801 will be enforced from 3 p.m. to 6 p.m. on September 18, 2015; and from 9 a.m. to 6 p.m. on September 19 and 20, 2015.

FOR FURTHER INFORMATION CONTACT: If you have questions on this notice of enforcement, call or email Mr. Scott Whalen. U.S. Coast Guard Marine Safety Unit Port Arthur, TX; telephone 409-719-5086, email scott.k.whalen@uscg.mil.

SUPPLEMENTARY INFORMATION: The Coast Guard will enforce Special Local Regulation for the annual S.P.O.R.T. boat races in 33 CFR 100.801 (Table 3, Line 5) on September 18, 2015, from 3 p.m. to 6 p.m. and on September 19 and 20, 2015, from 9 a.m. to 6 p.m.

This Special Local Regulation encompasses all waters of the Sabine River south of latitude 30°05′33″ N. and waters north of latitude 30°05′45″ N. (NAD 83).

Under the provisions of 33 CFR 100.801, a vessel may not enter the regulated area, unless it receives permission from the on-scene Patrol Commander. Spectator vessels may safely transit outside the regulated area but may not anchor, block, loiter, or impede participants or official patrol vessels. The Coast Guard may be assisted by other federal, state or local law enforcement agencies in enforcing this regulation.

This notice is issued under authority of 33 CFR 100.801 and 33 U.S.C. 1233. In addition to this notice in the Federal Register, the Coast Guard will provide the maritime community with notification of this enforcement period via Local Notice to Mariners, Marine Information Broadcasts, and Marine Safety Information Bulletins.

If the Captain of the Port or his designated on-scene Patrol Commander determines that the regulated area need not be enforced for the full duration stated in this notice, he or she may use a Broadcast Notice to Mariners to grant general permission to enter the regulated area.

Dated: August 18, 2015.
R.S. Ogrydziak,
Captain, U.S. Coast Guard, Captain of the Port, Port Arthur.

[FR Doc. 2015-21772 Filed 9-1-15; 8:45 am]

BILLING CODE 9110-04-P